DEPARTMENT OF TRANSPORTATION

Federal Aviation Administration

Availability of Draft Purpose and Need Working Paper for the Proposed Southern Nevada Supplemental Airport, Las Vegas, Clark County, NV

AGENCY: Federal Aviation Administration.

ACTION: Notice of Availability of Draft Purpose and Need Working Paper.

SUMMARY: The Federal Aviation Administration (FAA), in cooperation with the Bureau of Land Management (BLM), is issuing this notice to advise the public that the Draft Purpose and Need Working Paper for the Draft EIS will be made available for public comment pursuant to section 304 of the Vision 100 Century of Aviation Act of 2003 (Pub. L. 108-176) [49 U.S.C. 47171(l)]. The Draft Purpose and Need Working Paper has been prepared for the construction and operation of the proposed Southern Nevada Supplemental Airport, located along Interstate Highway 15 about 30 miles south of Las Vegas, Clark County, Nevada. FAA is seeking comments on the Draft Purpose and Need Working Paper.

FOR FURTHER INFORMATION CONTACT: Andrew Brooks, Environmental Protection Specialist, AWP-610.6, Airports Division, Federal Aviation Administration, Western-Pacific Region, P.O. Box 92007, Los Angeles, California 90009-2007, Telephone: 650/922-1899. Comments on the Draft Purpose and Need Working Paper should be submitted to the address above and must be received no later than 5 p.m. Pacific Standard Time, Friday, February 29, 2008.

SUPPLEMENTARY INFORMATION: The Federal Aviation Administration (FAA), in cooperation with the Bureau of Land Management (BLM), is preparing a Draft Environmental Impact Statement for the proposed Southern Nevada Supplemental Airport (SNSA). The need to prepare an Environmental Impact Statement (EIS) is based on the procedures described in FAA Order 1050.1E, Environmental Impacts: Policies and Procedures, FAA Order 5050.4B, National Environmental Policy Act (NEPA) Implementing Instructions for Airport Actions, and BLM NEPA Handbook H-1790-1. Further, the FAA and BLM are preparing this EIS jointly pursuant to the Ivanpah Valley Airport Lands Transfer Act of 2000, (Pub. L. 106-362). Clark County proposes to build the airport along Interstate Highway 15 north of the Nevada/California border about 30 miles south of Las Vegas, between Primm and Jean in Clark County, Nevada. The purpose of the proposed airport is to provide additional capacity to accommodate the forecasted growth in air carrier aircraft operations and aviation passenger demand into the Las Vegas area. This airport would supplement existing air carrier capacity at McCarran International Airport (LAS). The Draft EIS is also being prepared by FAA and BLM pursuant to the National Environmental Policy Act of 1969.

FAA and BLM are making the Draft Purpose and Need Working Paper available to the public and governmental agencies for review and comment. This working paper contains information that the FAA and BLM will include into the Purpose and Need Section of the Draft EIS. FAA and BLM will consider all comments received for the purpose of developing future documents supporting the Draft EIS. FAA and BLM will accept comments on the Draft Purpose and Need Working Paper until 5 p.m. Pacific Standard Time, Friday, February 23, 2008.

Copies of the Draft Purpose and Need Working Paper are available for public review at the following locations during normal business hours:

U.S. Department of Transportation, Federal Aviation Administration, Western-Pacific Region, Office of the Airports Division, 15000 Aviation Boulevard, Hawthorne, California 90261

U.S. Department of Transportation, Federal Aviation Administration, National Headquarters, Office of Airports, Planning and Environmental Needs Division, 800 Independence Avenue, SW., Washington, DC 20591

Bureau of Land Management, Las Vegas Field Office, 4701 North Torrey Pines, Las Vegas, Nevada 89130

The document is also available for public review at the following libraries and other locations and at the following Web site: http://www.snvairporteis.com:

Boulder City Public Library, 701 Adams Boulevard, Boulder City, Nevada 89005

Gibson Library, 280 South Water Street, Henderson, Nevada 89015-7288

Pittman Library, 1608 Moser Drive, Henderson, Nevada 89015-4323

Paseo Verde Library, 280 South Green Valley Parkway, Henderson, Nevada 89012-2301

Malcolm Library, 2960 Sunridge Heights Parkway, Henderson, Nevada 89052

Clark County Law Library, 309 South 3rd Street, Suite 400, Las Vegas, Nevada 89155

Lied Library—UNLV, 4505 Maryland Parkway, Las Vegas, Nevada 89104

UNLV Libraries Government Publications, 4505 Maryland Parkway, Las Vegas, Nevada 89101

Nevada State Library and Archives, 716 N. Carson Street, Suite B, Carson City, Nevada 89701

North Las Vegas Library District, 2300 Civic Center Drive, North Las Vegas, Nevada 89030-5839

Aliante Branch Library, 2400 Deer Springs Way, North Las Vegas, Nevada 89084

Pahrump Community Library District, 701 East Street, Pahrump, Nevada 89048-0578

White Pine County Library, 950 Campton Street, Ely, Nevada 89301-1965

Clark County Library, 1401 East Flamingo Road, Las Vegas, Nevada 89119-5256

Goodsprings Library, 365 West San Pedro Avenue, Goodsprings, Nevada 89019-0667

Lincoln County Library, 63 Main Street, P.O. Box 330, Pioche, Nevada 89043-0330

Alamo Branch Library, 100 South First West, P.O. Box 239, Alamo, Nevada 89001-0239

Caliente Branch Library, 100 Depot Avenue, P.O. Box 306, Caliente, Nevada 89008-0306

Searchlight Library, 200 Michael Wendal Way, Searchlight, Nevada 89046

Sandy Valley Library, 650 W. Quartz Avenue, Sandy Valley, Nevada 89019

Mt. Charleston Library, 1252 Aspen Avenue, Las Vegas, Nevada 89124

Moapa Valley Library, 350 N. Moapa Valley Blvd., Overton, Nevada 89040

Laughlin Library, 2840 S. Needles Hwy., Laughlin, Nevada 89020

Blue Diamond Library, 14 Cottonwood Drive, Blue Diamond, Nevada 89004

Moapa Town Library, 1340 E. Highway 168, Moapa, Nevada 89025

Indian Springs Library, 715 Gretta Lane, Indian Springs, Nevada 89018

Bunkerville Library, 150 W. Virgin Street, Bunkerville, Nevada 89007

Mesquite Library, 121 W. First Street, Mesquite, Nevada 89027

Enterprise Library, 25 E. Shelbourne Way, Las Vegas, Nevada 89123

Green Valley Library, 2797 N. Green Valley Parkway, Henderson, Nevada 89014

Las Vegas Library, 833 Las Vegas Blvd. North, Las Vegas, Nevada 89101

Meadows Library, 300 W. Boston Ave. Las Vegas, Nevada 89102

Rainbow Library, 3150 N. Buffalo Drive, Las Vegas, Nevada 89128

Sahara West Library, 9600 W. Sahara Avenue, Las Vegas, Nevada 89177

Spring Valley Library, 4280 S. Jones Blvd, Las Vegas, Nevada 89103

Sunrise Library, 5400 Harris Avenue, Las Vegas, Nevada 89110

Summerlin Library, 1771 Inner Circle Drive, Las Vegas, Nevada 89134

West Charleston Library, 6301 W. Charleston Blvd., Las Vegas, Nevada 89146

West Las Vegas Library, 951 W. Lake Mead Blvd., Las Vegas, Nevada 89106

Whitney Library, 5175 E. Tropicana Avenue, Las Vegas, Nevada 89106

University of Nevada Las Vegas, 4505 Maryland Parkway Box 457001, Building LLB 1173, MS 7033, Las Vegas, Nevada 89154-7001

William S. Boyd School of Law, UNLV, 4505 Maryland Parkway, Box 451003, Las Vegas, Nevada 89154-1003

Nevada State College, 1125 Nevada State Drive, Henderson, Nevada 89015

Cambridge Recreation Center, 3930 Cambridge St., Las Vegas, Nevada 89119

Paradise Recreation Center, 4775 McLeod Dr., Las Vegas, Nevada 89121

Silver Springs Recreation Center, 1951 Silver Springs Pkwy, Henderson, Nevada 89074

Whitney Ranch Recreation Center, 575 Galleria Dr. #C, Henderson, Nevada 89015

Hollywood Recreation Center, 1650 S. Hollywood Blvd., Las Vegas, Nevada 89142

Desert Breeze Community Center, 8275 Spring Mountain Rd., Las Vegas, Nevada 89117

Helen Mayer Community Center, 4525 New Forest Dr., Las Vegas, Nevada 89147

Whitney Community Center, 5712 Missouri Ave., Las Vegas, Nevada 89122

West Flamingo Senior Center, 6255 W. Flamingo Rd., Las Vegas, Nevada 89103

Whitney Senior Center, 5712 Missouri Ave., Las Vegas, Nevada 89122

Sunset Park Administration Building, 2601 E. Sunset Rd., Las Vegas, Nevada 89120

Henderson City Hall, 240 S. Water Street, Henderson, Nevada 89015

Las Vegas City Hall, 400 Stewart Ave., Las Vegas, Nevada 89101

North Las Vegas City Hall, 2200 Civic Center Dr., North Las Vegas, Nevada 89030

Clark County Government Center, 500 S. Grand Central Parkway, Las Vegas, Nevada 89155

Boulder City Hall, 401 California Avenue, Boulder City, Nevada 89005

Sunrise Manor Town Hall, 2240 Linn Lane, Las Vegas, Nevada

McCarran International Airport, Clark County Department of Aviation, Planning Division, 5757 Wayne Newton Blvd., Las Vegas, Nevada 89119

Henderson Executive Airport, 1400 Executive Airport Drive, Suite B, Henderson, Nevada 89052

North Las Vegas Airport, 2730 Airport Dr., #101, North Las Vegas, Nevada 89032

Jean Sport Aviation Center, 23600 Las Vegas Blvd., Jean, Nevada 89019

The Draft Purpose and need Working Paper will be available for public comment for 30 days. Written comments on the Draft Purpose and Need Working Paper should be submitted to the address above under the heading “For Further Information Contact” and must be received no later than 5 p.m. Pacific Standard Time, Friday, February 29, 2008.

Issued in Hawthorne, California on January 18, 2008.
George Aiken,
Acting Manager, Airports Division, Western-Pacific Region, AWP-600.

[FR Doc. 08-328 Filed 1-24-08; 8:45 am]

BILLING CODE 4910-13-M